DEPARTMENT OF HEALTH AND HUMAN SERVICES

Health Resources and Services Administration

Charter Renewal for the Advisory Committee on Interdiciplinary, Community-Based Linkages

AGENCY: Health Resources and Services Administration (HRSA), Department of Health and Human Services (HHS).

ACTION: Notice.

SUMMARY: The Advisory Committee on Interdiciplinary, Community-Based Linkages (ACICBL or the Committee) has been rechartered. The effective date of the renewed charter is March 24, 2019.

FOR FURTHER INFORMATION CONTACT: Joan Weis, Ph.D., RN, CRNP, FAAN, Designated Federal Official, at 301-443-0430 or email at jweiss@hrsa.gov. A copy of the current committee membership, charter, and reports can be obtained at https://www.hrsa.gov/advisory-committees/interdisciplinary-community-linkages/index.html.

SUPPLEMENTARY INFORMATION: ACICBL provides advice and recommendations on policy and program development to the Secretary of HHS (Secretary) concerning the activities under Title VII, Part D of the Public Health Service Act, and is responsible for submitting an annual report to the Secretary and Congress describing the activities of the Committee, including findings and recommendations made by the Committee concerning the activities under Part D of Title VII. ACICBL develops, publishes, and implements performance measures and guidelines for longitudinal evaluations and recommends appropriation levels for programs under this part. The charter renewal for the ACICBL was approved on March 15, 2019 and the filing date is March 24, 2019. Renewal of the ACICBL charter gives authorization for the Committee to operate until March 24, 2021.

A copy of the ACICBL charter is available on the committee website at https://www.hrsa.gov/advisory-committees/interdisciplinary-community-linkages/index.html. A copy of the charter can also be obtained by accessing the Federal Advisory Committee Act (FACA) database that is maintained by the Committee Management Secretariat under the General Services Administration. The website for the FACA database is http://www.facadatabase.gov/.

Amy P. McNulty,
Acting Director, Division of the Executive Secretariat.

[FR Doc. 2019-06162 Filed 3-29-19; 8:45 am]

BILLING CODE 4165-15-P